DEPARTMENT OF AGRICULTURE

Forest Service

Powell Ranger District; Utah; Powell Travel Management Project; Withdrawal of Notice of Intent To Prepare an Environmental Impact Statement

AGENCY: Forest Service, Agriculture (USDA).

ACTION: Notice; withdrawal.

SUMMARY: The Dixie National Forest is withdrawing its notice of intent (NOI) to prepare an environmental impact statement (EIS) for the Powell Travel Management Project on the Powell Ranger District. The original NOI was published in the Federal Register on January 8, 2015. The Dixie National Forest's decision to withdraw the NOI is based on several factors, including regional and national budget allocations and prioritization of agency resources.

FOR FURTHER INFORMATION CONTACT: Questions concerning this notice should be directed to Powell District Ranger Christopher Wehrli at christopher.wehrli@usda.gov or 435-676-9300. Individuals who use telecommunication devices for the deaf/hard-of-hearing (TDD) may call the Federal Relay Service (FRS) at 1-800-877-8339, 24 hours a day, every day of the year, including holidays.

Dated: January 3, 2022.
Barnie Gyant,
Associate Deputy Chief, National Forest System.

[FR Doc. 2022-00145 Filed 1-7-22; 8:45 am]

BILLING CODE 3411-15-P